DEPARTMENT OF THE INTERIOR

National Park Service

[2253-665]

Notice of Inventory Completion: U.S. Fish and Wildlife Service, Southwest Regional Office, Albuquerque, NM

AGENCY: National Park Service, Interior.

ACTION: Notice.

SUMMARY: In furtherance of notices sent to Federally-recognized tribes in 1995, the U.S. Fish and Wildlife Service has completed an inventory of human remains in consultation with the appropriate Indian tribes, and has determined that there is a cultural affiliation between the human remains and a present-day Indian tribe. Representatives of any Indian tribe that believes itself to be culturally affiliated with the human remains may contact the U.S. Fish and Wildlife Service, Southwest Regional Office. Repatriation of the human remains to the Indian tribes stated below may occur if no additional claimants come forward.

DATES: Representatives of any Indian tribe that believes it has a cultural affiliation with the human remains should contact the U.S. Fish and Wildlife Service, Southwest Regional Office, at the address below by April 16, 2012.

ADDRESSES: Dr. Benjamin J. Tuggle, Regional Director, U.S. Fish and Wildlife Service, 500 Gold Ave. SW., P.O. Box 1306, Albuquerque, NM 87103. Procedural questions may be addressed to David Siegel, U.S. Fish and Wildlife Service, telephone (505) 248-7396.

SUPPLEMENTARY INFORMATION: Notice is here given in accordance with the Native American Graves Protection and Repatriation Act (NAGPRA), 25 U.S.C. 3003, of the completion of an inventory of human remains under the control of the U.S. Fish and Wildlife Service and in the possession of the Maxwell Museum, Albuquerque, NM. The human remains were removed from the Sevilleta National Wildlife Refuge, Socorro County, NM.

This notice is published as part of the National Park Service's administrative responsibilities under NAGPRA, 25 U.S.C. 3003(d)(3). The determinations in this notice are the sole responsibility of the museum, institution or Federal agency that has control of the Native American human remains. The National Park Service is not responsible for the determinations in this notice.

Consultation

In 1995, a detailed assessment of the human remains was made by the U.S. Fish and Wildlife Service professional staff in consultation with the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of Sandia, New Mexico; Pueblo of Santa Ana, New Mexico; Pueblo of Santa Clara, New Mexico; Pueblo of Santo Domingo, New Mexico; Pueblo of San Felipe, New Mexico; Pueblo of San Ildefonso, New Mexico; Pueblo of San Juan, New Mexico; Pueblo of Taos, New Mexico; Pueblo of Tesuque, New Mexico; Ysleta Del Sur Pueblo of Texas; and the Zuni Tribe of the Zuni Reservation, New Mexico (hereinafter referred to as “The Tribes”).

History and Description of the Remains

In 1980, human remains representing, at minimum, one individual were removed from Sevilleta National Wildlife Refuge, Socorro County, NM. The partial set of human remains, exposed and undercut by floodwaters, was removed by the University of New Mexico Office of Contract Archeology. The remains from the excavations are housed at the Maxwell Museum in Albuquerque, NM. No known individual was identified. No associated funerary objects are present. The remains are of prehistoric, Puebloan origins. Based on cultural traditions, ethnographic sources, and oral history, the remains are culturally affiliated to the Hopi Tribe of Arizona.

Determinations Made by the U.S. Fish and Wildlife Service, Southwest Regional Office

Officials of the U.S. Fish and Wildlife Service have determined that:

• Pursuant to 25 U.S.C. 3001(9), the human remains described in this notice represent the physical remains of one individual of Native American ancestry.

• Pursuant to 25 U.S.C. 3001(2), there is a relationship of shared group identity that can be reasonably traced between the Native American human remains and the Hopi Tribe of Arizona.

Additional Requestors and Disposition

Representatives of any Indian tribe that believes itself to be culturally affiliated with the human remains should contact Dr. Benjamin J. Tuggle, Regional Director, U.S. Fish and Wildlife Service, 500 Gold Ave. SW., P.O. Box 1306, Albuquerque, NM 87103. Procedural questions may be addressed to David Siegel, U.S. Fish and Wildlife Service, telephone (505) 248-7396, before April 16, 2012. Repatriation of the human remains to the Hopi Tribe of Arizona may proceed after that date if no additional claimants come forward.

The U.S. Fish and Wildlife Service is responsible for notifying The Tribes that this notice has been published.

Dated: March 12, 2012.
Sherry Hutt,
Manager, National NAGPRA Program.

[FR Doc. 2012-6323 Filed 3-15-12; 8:45 am]

BILLING CODE 4312-50-P